NATIONAL AERONAUTICS AND SPACE ADMINISTRATION

[Notice: 06-080]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Walter Kit, National Aeronautics and Space Administration, Washington, DC 20546-0001.

FOR FURTHER INFORMATION CONTACT: Requests for additional information or copies of the information collection instrument(s) and instructions should be directed to Mr. Walter Kit, NASA PRA Officer, NASA Headquarters, 300 E Street SW., JE000, Washington, DC 20546, (202) 358-1350, Walter.Kit-1@nasa.gov.

SUPPLEMENTARY INFORMATION:

I. Abstract

The analysis of the Effective Messaging Research survey will position NASA to effectively communicate Agency messages.

II. Method of Collection

All survey responses will be collected by telephone and tabulated electronically.

III. Data

Title: Effective Messaging Research.

OMB Number: 2700-0113.

Type of review: Extension of currently approved collection.

Affected Public: Individuals and households, Business or other for-profit, not-for-profit institutions, Federal Government, and State, Local or Tribal Government.

Number of Respondents: 2700.

Responses Per Respondent: 1.

Annual Responses: 2700.

Hours Per Request: 0.33 hours.

Annual Burden Hours: 900.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gary Cox,
Deputy Chief Information Officer (Acting).

[FR Doc. E6-17252 Filed 10-16-06; 8:45 am]

BILLING CODE 7510-13-P